DEPARTMENT OF LABOR

Office of the Secretary of Labor

Notice of Meeting: President's Council on the 21st Century Workforce and the Committees on Skills Gap, Demographics and Workplace Issues

AGENCY: Office of the Secretary of Labor.

ACTION: Notice of meeting of the President's Council on the 21st Century Workforce and meeting of Committees.

SUMMARY: Pursuant to Executive Order 13218, the Secretary of Labor will hold a meeting of the President's Council on the 21st Century Workforce, hereafter (The Council). This is the second meeting of The Council and its Committees on the Skills Gap, Changing Demographics, and Workplace Issues. The Council and Committees will provide information and advice to the President, through the Secretary of Labor and the Office of the 21st Century Workforce, on issues guided by Executive Order 13218.

Date, Time and Location: The Council and the Committees will meet on November 21, 2002 from 8:30 a.m. to approximately 2 p.m. The location of the meeting will be the Secretary's Conference Room, U.S. Department of Labor, Francis Perkins Building, 200 Constitution Avenue, NW., Washington, DC 20210.

FOR FURTHER INFORMATION CONTACT: Shelley Hymes, Director, Office of the 21st Century Workforce, U.S. Department of Labor, Room S-2235, 200 Constitution Avenue, NW., Washington, DC 20210. The contact telephone number is (202) 693-6490.

SUPPLEMENTARY INFORMATION: The meeting is open to the public. The agenda for this meeting includes:

• Welcome and remarks by U.S. Secretary of Labor Elaine L. Chao

• Welcome and remarks by the Director of the Office of the 21st Century Workforce

• Briefing by Department of Labor (DOL) Officials;

• Committee meeting on the Skills Gap, Changing Demographics and Workplace Issues

An official record of the meeting will be available for public inspection in the Office of the 21st Century Workforce. All inquiries should be addressed to the Office of the 21st Century Workforce at the address and telephone number provided above.

Individuals needing special accommodations for the Council or Committee meeting should contact Shelley Hymes at 202-693-6490 before November 19, 2002.

Interested parties may submit written data, views or comments, preferably 20 copies, to Shelley Hymes at the address listed above. The Office of the 21st Century Workforce will forward submissions received prior to the meeting to the appropriate Council or Committees and will include each submission in the record of the meeting.

Due to unforeseen administrative delay, we are unable to provide the full 15 days of advanced notice of this meeting.

Dated: Signed in Washington DC on November 14, 2002.
Shelley S. Hymes,
Director, Office of the 21st Century Workforce.

[FR Doc. 02-29432 Filed 11-18-02; 8:45 am]

BILLING CODE 4510-23-M